DEPARTMENT OF LABOR

Office of Federal Contract Compliance Programs

41 CFR Parts 60-300 and 60-741

RIN 1250-AA14

Pre-Enforcement Notice and Conciliation Procedures; Correction

AGENCY: Office of Federal Contract Compliance Programs, Labor.

ACTION: Final rule; correction.

SUMMARY: The U.S. Department of Labor's Office of Federal Contract Compliance Programs (OFCCP) published a final rule in the Federal Register on August 4, 2023, modifying procedures and standards OFCCP uses when issuing pre-enforcement notices and securing compliance through conciliation. This document corrects amendatory instructions included in the final rule.

DATES: These corrections are effective September 5, 2023.

FOR FURTHER INFORMATION CONTACT: Tina Williams, Director, Division of Policy and Program Development, Office of Federal Contract Compliance Programs, 200 Constitution Avenue NW, Room C-3325, Washington, DC 20210. Telephone: (202) 693-0103 or toll free at 1-800-397-6251. If you are deaf, hard of hearing, or have a speech disability, please dial 7-1-1 to access telecommunications relay services.

SUPPLEMENTARY INFORMATION:

Corrections

OFCCP makes the following corrections to the final rule (FR Doc. 2023-16098) published on August 4, 2023 (88 FR 51717):

§ 60-300.2 [Corrected]

1. On page 51735, column 3, in amendatory instruction 20 for § 60-300.2, the instruction “Amend § 60-300.2 by removing the definitions for `Qualitative evidence' and `Quantitative evidence' ” is corrected to read “Remove and reserve § 60-300.2(t) and (u).”

§ 60-300.85 [Corrected]

2. On page 51736, column 2, in amendatory instruction 24 for § 60-300.85, the instruction “Add § 60-300.85 to subpart D to read as follows:” is corrected to read “Add § 60-300.85 to subpart E to read as follows:”.

§ 60-741.2 [Corrected]

3. On page 51736, column 2, in amendatory instruction 26 for § 60-741.2, the instruction “Amend § 60-741.2 by removing the definitions for `Qualitative evidence' and `Quantitative evidence' is corrected to read “Remove and reserve § 60-741.2(s) and (t).”

Michele Hodge,
Acting Director, Office of Federal Contract Compliance Programs.

[FR Doc. 2023-17958 Filed 8-21-23; 8:45 am]

BILLING CODE 4510-CM-P